DEPARTMENT OF THE INTERIOR

Bureau of Land Management

[LLCO956000 L14200000.BJ0000]

Notice of Filing of Plats of Survey; Colorado

AGENCY: Bureau of Land Management, Interior.

ACTION: Notice of Filing of Plats of Survey; Colorado

SUMMARY: The Bureau of Land Management (BLM) Colorado State Office is publishing this notice to inform the public of the intent to officially file the survey plats listed below and afford a proper period of time to protest this action prior to the plat filing. During this time, the plats will be available for review in the BLM Colorado State Office.

DATES: Unless there are protests of this action, the filing of the plats described in this notice will happen on July 1, 2013.

ADDRESSES: BLM Colorado State Office, Cadastral Survey, 2850 Youngfield Street, Lakewood, CO 80215-7093.

FOR FURTHER INFORMATION CONTACT: Randy Bloom, Chief Cadastral Surveyor for Colorado, (303) 239-3856.

Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The plat and field notes of the dependent resurvey and subdivision of certain sections in Township 47 North, Range 3 West, New Mexico Principal Meridian, Colorado, were accepted April 9, 2013.

The plat and field notes of the dependent resurvey and subdivision of sections 24 and 36 in Township 47 North, Range 4 West, New Mexico Principal Meridian, Colorado, were accepted on April 9, 2013.

The plat and field notes of the dependent resurvey and metes-and-bounds survey of Tract 37 in unsurveyed Township 4 North, Range 79 West, Sixth Principal Meridian, Colorado, were accepted on April 19, 2013.

The plat and field notes of the dependent resurvey of Mineral Survey No. 588, Malter Place, in Township 43 North, Range 4 West, New Mexico Principal Meridian, were accepted on May 7, 2013.

The plat and field notes of the dependent resurvey of Mineral Survey No. 622, Red Cloud Lode, in Township 43 North, Range 4 West, New Mexico Principal Meridian, were accepted on May 7, 2013.

The plat and field notes of the dependent resurvey and survey in Township 13 South, Range 92 West, Sixth Principal Meridian, Colorado, were accepted on May 16, 2013.

Randy Bloom,
Chief Cadastral Surveyor for Colorado.

[FR Doc. 2013-12837 Filed 5-29-13; 8:45 am]

BILLING CODE 4310-JB-P